DEPARTMENT OF JUSTICE

Notice of Lodging of Consent Decree Under the Clean Air Act

Under 28 CFR 50.7, notice is hereby given that on March 3, 2000, a proposed Consent Decree in United States of America and County of Allegheny, Pennsylvania v. Shenango Incorporated, Civil Action 80-1172, was lodged with the United States District Court for the Western District of Pennsylvania.

In this action the United States sought civil contempt for violations of a Consent Decree between the same parties that resolved a prior civil contempt action in the same case (1993 Decree). The newly lodged Consent Decree is proposed to resolve Shenango's alleged violations of the 1993 Decree, which incorporates Allegheny County regulations enforceable under the Clean Air Act, 42 U.S.C. 7401, et seq.

The site of the alleged violations is Shenango's coke oven battery on Neville Island, located in the Ohio River approximately five miles from Pittsburgh, Pennsylvania. In settlement, Shenango will pay a civil penalty of $2,100,000 and accept a mandatory injunction. Under the injunction, Shenango is required to continue with major renovations to its desulfurization system and to make formal and improve a program designed to reduce or eliminate violations of Allegheny County's visible emission standard for coke oven combustion stacks. Further, Shenango has agreed to substantial stipulated penalties for any future violations of Allegheny County's desulfurization and combustion stack visible emission standards.

The Department of Justice will receive for a period of thirty (30) days from the date of this publication comments relating to the proposed Consent Decree. Comments should be addressed to the Assistant Attorney General for the Environment and Natural Resources Division, P.O. Box 7611, U.S. Department of Justice, Washington, D.C. 2004-7611, and should refer to United States et al. v. Shenango Incorporated, DOJ Ref. #90-5-2-3-1099/1.

The proposed Consent Decree may be examined at the office of the United States Attorney, Western District of Pennsylvania, 633 U.S. Post Office and Courthouse, 7th and Grant Streets, Pittsburgh, Pennsylvania 15219, the Region III Office of the Environmental Protection Agency, 1650 Arch Street, Philadelphia, Pennsylvania 19103, and the Allegheny County Health Department Library, Building #7, 301 39th Street, Pittsburgh, Pennsylvania 15201-1891 (between the hours of 8:30 a.m. and 4:30 p.m.) A copy of the proposed Consent Decree may be obtained by mail from the Consent Decree Library, P.O. Box 7611, U.S. Department of Justice, Washington, D.C. 20044-7611. The proposed Consent Decree contains 119 pages, including attachments. To obtain the Consent Decree without attachments, please enclose a check for $19.00 (25 cents per page reproduction cost) payable to the Consent Decree Library. To obtain the entire Decree, including attachments, please enclose a check to the Consent Decree Library in the amount of $29.75. In all correspondence, please refer to the case by its title and DOJ Ref. #90-5-2-3-1099/1.

Joel Gross,
Chief, Environmental Enforcement Section, Environment and Natural Resources Division.

[FR Doc. 00-6537 Filed 3-15-00; 8:45 am]

BILLING CODE 4410-15-M